DEPARTMENT OF DEFENSE

Office of the Secretary

[Docket ID DoD-2009-OS-0009]

Privacy Act of 1974; Systems of Records

AGENCY: Defense Logistics Agency, DoD.

ACTION: Notice To Alter a System of Records.

SUMMARY: The Defense Logistics Agency proposes to alter a system of records notice in its existing inventory of records systems subject to the Privacy Act of 1974 (5 U.S.C. 552a), as amended.

DATES: This proposed action will be effective without further notice on February 23, 2009, unless comments are received which result in a contrary determination.

ADDRESSES: Send comments to the Privacy Act Officer, Headquarters, Defense Logistics Agency, Attn: DP, 8725 John J. Kingman Road, Stop 2533, Fort Belvoir, VA 22060-6221.

FOR FURTHER INFORMATION CONTACT: Ms. Jody Sinkler at (703) 767-5045.

SUPPLEMENTARY INFORMATION: The Defense Logistics Agency systems of records notices subject to the Privacy Act of 1974 (5 U.S.C. 552a), as amended, have been published in the Federal Register and are available from the address above.

The proposed system reports, as required by 5 U.S.C. 552a(r), of the Privacy Act of 1974, as amended, were submitted on January 13, 2009, to the House Committee on Oversight and Government Reform, the Senate Committee on Homeland Security and Governmental Affairs, and the Office of Management and Budget (OMB) pursuant to paragraph 4c of Appendix I to OMB Circular No. A-130, `Federal Agency Responsibilities for Maintaining Records About Individuals,' dated February 8, 1996 (February 20, 1996, 61 FR 6427).

Dated: January 13, 2009.
Morgan E. Frazier,
Alternate OSD Federal Register Liaison Officer, Department of Defense.

S180.30 DSCR

System name:

FOIA and Privacy Act Request Tracking System (November 16, 2004, 69 FR 67112).

Changes:

System identifier:

Delete entry and replace with “S510.30.”

System name:

Delete entry and replace with “Freedom of Information Act/Privacy Act Requests and Administrative Appeal Records.”

System location:

Delete entry and replace with “Freedom of Information Act/Privacy Act Office, Headquarters, Defense Logistics Agency, Attn: DGA, 8725 John J. Kingman Road, Suite 1644, Fort Belvoir, VA 22060-6221 and the FOIA/PA Offices of the DLA Field Activities. Mailing addresses for the DLA Field Activities may be obtained from the System manager.”

Categories of individuals covered by the system:

Delete entry and replace with “Individuals who submit Freedom of Information Act (FOIA) and Privacy Act (PA) requests, or FOIA/PA administrative appeals; individuals whose requests and/or records have been referred to the Defense Logistics Agency by other agencies; and in some instances includes attorneys representing individuals submitting such requests and appeals, or individuals who are the subjects of such requests and appeals.”

Categories of records in the system:

Delete entry and replace with “Records created or compiled in response to FOIA and Privacy Act requests and administrative appeals and includes the original requests and administrative appeals; responses to such requests and administrative appeals; all related memoranda, correspondence, notes, and other related or supporting documentation; and, in some instances, copies of requested records and records under administrative appeal.”

Authority for maintenance of the system:

Delete entry and replace with “5 U.S.C. 301, Departmental Regulations; 5 U.S.C. 552, Freedom of Information Act; and 5 U.S.C. 552a, The Privacy Act of 1974 (as amended).”

Purpose(s):

Delete entry and replace with “This system is maintained for the purpose of processing access requests and administrative appeals under the FOIA, access and amendment requests and administrative appeals under the Privacy Act; for the purpose of participating in litigation regarding agency action on such requests and appeals; and for the purpose of assisting the Defense Logistics Agency in carrying out any other responsibilities under the FOIA and the Privacy Act.”

Routine uses of records maintained in the system, including categories of users and the purposes of such uses:

Add a new paragraph as follows: “Information from this system may be provided to other Federal, state, and local agencies when it is necessary to coordinate responses or denials.”

* * * * *

Storage:

Delete entry and replace with “Records may be stored on paper and/or on electronic media.”

Retrievability:

Delete entry and replace with “Records are retrieved by the name of the requester or appellant; the number assigned to the request or appeal; and in some instances may be retrieved by the name of the attorney representing the requester or appellant, or the name of an individual who is the subject of such a request or appeal.”

Safeguards:

Delete entry and replace with “Information in this system is safeguarded in accordance with applicable laws, rules, and policies. Access is limited to those officers and employees of the agency who have an official need for access in order to perform their duties. Access is further restricted by the use of a two-factor authentication process (common access card and registered login name). Physical entry is restricted by the use of locks, guards, and administrative procedures. Employees are periodically briefed on the consequences of improperly accessing restricted databases.”

Retention and disposal:

Delete entry and replace with “Freedom of Information Act Requests—Full disclosure files are destroyed 2 years after date of reply; FOIA request denial files are destroyed after 6 years if not appealed; FOIA appeal files are destroyed 6 years after final determination by agency, or 6 years after the time at which a requester could file suit, or 3 years after adjudication by courts, whichever is later.

Privacy Act Requests—Requests totally granted are destroyed 2 years after date of reply; requests totally or partially denied and not appealed are destroyed 5 years after date of reply; requests totally or partially denied and appealed are destroyed 4 years after final determination by agency or 3 years after final adjudication by courts, whichever is later.”

System manager(s) and address:

Delete entry and replace with “Chief Privacy and FOIA Officer, FOIA/Privacy Act Office, Headquarters, Defense Logistics Agency, Attn: DGA, 8725 John J. Kingman Road, Suite 1644, Fort Belvoir, VA 22060-6221.”

Notification procedure:

Delete entry and replace with “Individuals seeking to determine whether information about themselves is contained in this system should address written inquiries to the DLA Activity to which the initial request was addressed and/or directed or you may submit your request to the Privacy Act Office, Headquarters, Defense Logistics Agency, Attn: DGA, 8725 John J. Kingman Road, Suite 1644, Fort Belvoir, VA 22060-6221.

Inquiry should contain the requester's full name, individual's full name who is the subject of the record if different from the requester, current address, telephone number, a description of the records sought, and correspondence tracking number, if known.”

Record access procedures:

Delete entry and replace with “Individuals seeking access to information about themselves under the Privacy Act contained in this system should address written inquiries to the DLA Activity to which the initial request was addressed and/or directed or you may submit your request to the Privacy Act Office, Headquarters, Defense Logistics Agency, Attn: DGA, 8725 John J. Kingman Road, Suite 1644, Fort Belvoir, VA 22060-6221.

Inquiry should contain the requester's full name, individual's full name who is the subject of the record if different from the requester, current address, telephone number, a description of the records sought, and correspondence tracking number, if known.”

Contesting record procedures:

Delete entry and replace with “The DLA rules for accessing records, for contesting contents,* and appealing initial agency determinations are contained in 32 CFR part 323, or may be obtained from the Privacy Act Office, Headquarters, Defense Logistics Agency, Attn: DGA, 8725 John J. Kingman Road, Suite 1644, Fort Belvoir, VA 22060-6221.”

——————

* Some information may be exempt from contesting record procedures.

* * * * *

Exemptions claimed for the system:

Delete entry and replace with “During the course of a FOIA/Privacy Act action, exempt materials from other systems of records may become part of the case records in this system of records. To the extent that copies of exempt records from those ‘other’ systems of records are entered into these PA case records, Defense Logistics Agency hereby claims the same exemptions for the records as claimed in the original primary systems of records which they are a part.

An exemption rule for this system has been promulgated in accordance with requirements of 5 U.S.C. 553(b)(1), (2), and (3), (c), and (e) and published in 32 CFR part 323. For additional information contact the System manager.”

* * * * *

S510.30

System name:

Freedom of Information Act/Privacy Act Requests and Administrative Appeal Records.

System location:

Freedom of Information Act/Privacy Act Office, Headquarters, Defense Logistics Agency, Attn: DGA, 8725 John J. Kingman Road, Suite 1644, Fort Belvoir, VA 22060-6221 and the FOIA/PA Offices of the DLA Field Activities. Mailing addresses for the DLA Field Activities may be obtained from the System manager.

Categories of individuals covered by the system:

Individuals who submit Freedom of Information Act (FOIA) and Privacy Act (PA) requests, or FOIA/PA administrative appeals; individuals whose requests and/or records have been referred to the Defense Logistics Agency by other agencies; and in some instances includes attorneys representing individuals submitting such requests and appeals, or individuals who are the subjects of such requests and appeals.

Categories of records in the system:

Records created or compiled in response to FOIA and Privacy Act requests and administrative appeals and includes the original requests and administrative appeals; responses to such requests and administrative appeals; all related memoranda, correspondence, notes, and other related or supporting documentation; and, in some instances, copies of requested records and records under administrative appeal.

Authority for maintenance of the system:

5 U.S.C. 301, Departmental Regulations; 5 U.S.C. 552, Freedom of Information Act; and 5 U.S.C. 552a, The Privacy Act of 1974 (as amended).

Purpose(s):

This system is maintained for the purpose of processing access requests and administrative appeals under the FOIA, access and amendment requests and administrative appeals under the Privacy Act; for the purpose of participating in litigation regarding agency action on such requests and appeals; and for the purpose of assisting the Defense Logistics Agency in carrying out any other responsibilities under the FOIA and the Privacy Act.

Routine uses of records maintained in the system, including categories of users and the purposes of such uses:

In addition to those disclosures generally permitted under 5 U.S.C. 552a(b) of the Privacy Act, these records or information contained therein may specifically be disclosed outside the DOD as a routine use pursuant to 5 U.S.C. 552a(b)(3) as follows:

Information from this system may be provided to other Federal, state, and local agencies when it is necessary to coordinate responses or denials.

The DoD “Blanket Routine Uses” apply to this system of records.

Policies and practices for storing, retrieving, accessing, retaining and disposing of records in the system:

Storage:

Records may be stored on paper and/or on electronic media.

Retrievability:

Records are retrieved by the name of the requester or appellant; the number assigned to the request or appeal; and in some instances may be retrieved by the name of the attorney representing the requester or appellant, or the name of an individual who is the subject of such a request or appeal.

Safeguards:

Information in this system is safeguarded in accordance with applicable laws, rules, and policies. Access is limited to those officers and employees of the agency who have an official need for access in order to perform their duties. Access is further restricted by the use of a two-factor authentication process (Common Access Card and registered login name). Physical entry is restricted by the use of locks, guards, and administrative procedures. Employees are periodically briefed on the consequences of improperly accessing restricted databases.

Retention and disposal:

Freedom of Information Act Requests—Full disclosure files are destroyed 2 years after date of reply; FOIA request denial files are destroyed after 6 years if not appealed; FOIA appeal files are destroyed 6 years after final determination by agency, or 6 years after the time at which a requester could file suit, or 3 years after adjudication by courts, whichever is later.

Privacy Act Requests—Requests totally granted are destroyed 2 years after date of reply; requests totally or partially denied and not appealed are destroyed 5 years after date of reply; requests totally or partially denied and appealed are destroyed 4 years after final determination by agency or 3 years after final adjudication by courts, whichever is later.

System manager(s) and address:

Chief Privacy and FOIA Officer, FOIA/Privacy Act Office, Headquarters, Defense Logistics Agency, Attn: DGA, 8725 John J. Kingman Road, Suite 1644, Fort Belvoir, VA 22060-6221.

Notification procedure:

Individuals seeking to determine whether information about them is contained in this system should address written inquiries to the DLA Activity to which the initial request was addressed and/or directed or you may submit your request to the Privacy Act Office, Headquarters, Defense Logistics Agency, Attn: DGA, 8725 John J. Kingman Road, Suite 1644, Fort Belvoir, VA 22060-6221.

Inquiry should contain the requester's full name, individual's full name who is the subject of the record if different from the requester, current address, telephone number, a description of the records sought, and correspondence tracking number, if known.

Record access procedures:

Individuals seeking access to information about themselves under the Privacy Act contained in this system should address written inquiries to the DLA Activity to which the initial request was addressed and/or directed or you may submit your request to the Privacy Act Office, Headquarters, Defense Logistics Agency, Attn: DGA, 8725 John J. Kingman Road, Suite 1644, Fort Belvoir, VA 22060-6221.

Inquiry should contain the requester's full name, individual's full name who is the subject of the record if different from the requester, current address, telephone number, a description of the records sought, and correspondence tracking number, if known.

Contesting record procedures:

The DLA rules for accessing records, for contesting contents,* and appealing initial agency determinations are contained in 32 CFR part 323, or may be obtained from the Privacy Act Office, Headquarters, Defense Logistics Agency, Attn: DGA, 8725 John J. Kingman Road, Suite 1644, Fort Belvoir, VA 22060-6221.

——————

* Some information may be exempt from contesting record procedures.

Record source categories:

Data is provided by the record subject, the FOIA/Privacy Act staff, and program software. Those individuals who submit initial requests and administrative appeals pursuant to the FOIA and the Privacy Act; the agency records searched in the process of responding to such requests and appeals; other agencies or entities that have referred to the Defense Logistics Agency requests concerning Defense Logistics Agency records, or that have consulted with the Defense Logistics Agency regarding the handling of particular requests.

Exemptions claimed for the system:

During the course of a FOIA/Privacy Act action, exempt materials from other systems of records may become part of the case records in this system of records. To the extent that copies of exempt records from those “other” systems of records are entered into these FOIA/PA case records, Defense Logistics Agency hereby claims the same exemptions for the records as claimed in the original primary systems of records which they are a part.

An exemption rule for this system has been promulgated in accordance with requirements of 5 U.S.C. 553(b)(1), (2), and (3), (c), and (e) and published in 32 CFR part 323. For additional information contact the System manager.

[FR Doc. E9-1246 Filed 1-21-09; 8:45 am]

BILLING CODE 5001-06-P